DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: Application of License to Enter Watches and Watch Movements into the Customs Territory of the United States.

Agency Form Number: ITA-334P.

OMB Number: 0625-0040.

Type of Request: Regular Submission.

Burden: 14 hours.

Number of Respondents: 11.

Avg. Hours Per Response: 1 hour.

Needs and Uses: Public Law 97-446, as amended by Public Law 103-465, requires the Departments of Commerce and the Interior to administer the distribution of duty-exemptions and duty-refunds to watch producers in the U.S. insular possessions and the Northern Mariana Islands. Public Law 106-36, enacted June 25, 1999, provides for the distribution of duty-refund benefits for any jewelry within heading 7113 of the Harmonized Tariff Schedule of the United States which is the product of the U.S. Territories and the Northern Mariana Islands in accordance with the new provisions of the note in chapter 71 and additional U.S. note 5 to chapter 91. The primary consideration in collecting information is the enforcement of the laws and the information gathered is limited to that necessary to prevent abuse of the program and to permit a fair and equitable distribution of its benefits. Form ITA-334P is the principal program form used for recording the operational data on the basis of which program entitlements are distributed among the producers (and the provision of which to the Departments constitutes their application for these entitlements). The form is completed by watch and watch movement manufacturers and has been modified with special instructions for completion by the new jewelry manufacturers. Because the duty-refund benefit has been changed from an annual benefit to a biannual benefit, Form ITA-334P is also used, with modified instructions, to gather the information needed to calculate the interim duty-refund certificate for the jewelry and watch manufacturers.

Affected Public: Businesses or other for-profits.

Frequency: Semi-Annually.

Respondent's Obligation: Required to obtain or retain a benefit.

OMB Desk Officer: David Rostker, (202) 395-3897.

Copies of the above information collection proposal can be obtained by calling or writing Diana Hynek, Departmental Paperwork Clearance Officer, (202) 482-0266, Department of Commerce, Room 6625, 14th and Constitution, NW., Washington, DC 20230 or via internet at dHynek@doc.gov.

Written comments and recommendations for the proposed information collection should be sent to David Rostker, OMB Desk Officer, Room 10202, New Executive Office Building, Washington, DC 20503 within 30 days of the publication of this notice in the Federal Register.

Dated: September 23, 2002.
Madeleine Clayton,
Management Analyst, Office of the Chief Information Officer.

[FR Doc. 02-24537 Filed 9-26-02; 8:45 am]

BILLING CODE 3510-DS-P